DEPARTMENT OF ENERGY

Federal Energy Regulatory Commission

Combined Notice of Filings #1

September 4, 2007.

Take notice that the Commission received the following electric rate filings:

Docket Numbers: ER07-671-003.

Applicants: Trigen-St. Louis Energy Corporation.

Description: Trigen-St Louis Energy Corporation resubmits its compliance filing in paper format to the electronic format filing submitted on 8/27/07.

Filed Date: 08/28/2007.

Accession Number: 20070830-0006.

Comment Date: 5 p.m. Eastern Time on Tuesday, September 18, 2007.

Docket Numbers: ER07-1248-001.

Applicants: Southwest Power Pool, Inc.

Description: Southwest Power Pool Inc submits Exhibit I—a clean version of the corrected tariff sheets which was inadvertently omitted from its 8/3/07 original fling to its Open Access Transmission Tariff.

Filed Date: 08/24/2007.

Accession Number: 20070829-0041.

Comment Date: 5 p.m. Eastern Time on Friday, September 14, 2007.

Docket Numbers: ER07-1284-001.

Applicants: ISO New England Inc. & New England Power Pool.

Description: ISO New England Inc and New England Power Pool submit the replacement redlined and clean version of Sheet 7199 and 7201 due to an error found in its August 14 Filing under ER07-1284.

Filed Date: 08/24/2007.

Accession Number: 20070829-0043.

Comment Date: 5 p.m. Eastern Time on Friday, September 14, 2007.

Docket Numbers: ER07-1311-000.

Applicants: Southwest Power Pool, Inc.

Description: Southwest Power Pool, Inc submits a proposal to revise provisions related to the interconnection of large generators to SPP's transmission system, as well as its pro forma Large Generator Interconnection Agreement etc.

Filed Date: 08/30/2007.

Accession Number: 20070831-0032.

Comment Date: 5 p.m. Eastern Time on Thursday, September 20, 2007.

Docket Numbers: ER07-1313-000.

Applicants: Niagara Mohawk Power Corporation.

Description: Niagara Mohawk Power Corporation dba National Grid submits a Notice of Termination of the First Amended and Restated Transmission Service Agreement with the Power Authority of the State of New York.

Filed Date: 08/30/2007.

Accession Number: 20070831-0019.

Comment Date: 5 p.m. Eastern Time on Thursday, September 20, 2007.

Docket Numbers: ER07-1314-000.

Applicants: Duke Energy Carolinas, LLC.

Description: Duke Energy Carolinas, LLC submits an Amended & Restated Master Power Purchase and Sale Agreement Confirmation Letter with North Carolina Municipal Power Agency Number 1.

Filed Date: 08/30/2007.

Accession Number: 20070831-0017.

Comment Date: 5 p.m. Eastern Time on Thursday, September 20, 2007.

Docket Numbers: ER07-1315-000.

Applicants: Idaho Power Company.

Description: Idaho Power Co submits modifications to non-rate terms and conditions in its Order 890 pro forma Open Access Transmission Tariff filed on 7/13/07.

Filed Date: 08/30/2007.

Accession Number: 20070831-0018.

Comment Date: 5 p.m. Eastern Time on Thursday, September 20, 2007.

Take notice that the Commission received the following open access transmission tariff filings:

Docket Numbers: OA07-74-001.

Applicants: MATL LLP.

Description: MATL, LLP amends its 7/13/07 filing by submitting a revised Open Access Transmission Tariff in compliance with the Commission's Order 890.

Filed Date: 08/28/2007.

Accession Number: 20070830-0004.

Comment Date: 5 p.m. Eastern Time on Tuesday, September 18, 2007.

Take notice that the Commission received the following public utility holding company filings:

Docket Numbers: PH07-27-000.

Applicants: The Williams Companies, Inc.

Description: Northwest Pipeline Corporation submits an Exemption Notification concerning the applicability of Public Utility Holding Company Act of 2005.

Filed Date: 08/24/2007.

Accession Number: 20070828-0175.

Comment Date: 5 p.m. Eastern Time on Friday, September 14, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Acting Deputy Secretary.

[FR Doc. E7-17736 Filed 9-7-07; 8:45 am]

BILLING CODE 6717-01-P